DEPARTMENT OF COMMERCE

National Oceanic and Atmospheric Administration

[I.D. 021301A]

Endangered Species; Permits

AGENCY: National Marine Fisheries Service (NMFS), National Oceanic and Atmospheric Administration (NOAA), Commerce.

ACTION: Receipt of three applications for scientific research permits (1290, 1291, 1292).

SUMMARY: Notice is hereby given of the following actions regarding permits for takes of endangered and threatened species for the purposes of scientific research and/or enhancement: NMFS has received applications for ESA section 10(a)(1)(A) scientific research permits from the Northwest Fisheries Science Center, NMFS at Seattle, WA (NWFSC); the U.S. Geological Survey at Cook, WA (USGS); and the U.S. Forest Service at La Grande, OR (USFS).

DATES: Comments or requests for a public hearing on any of the new applications or modification requests must be received at the appropriate address or fax number no later than 5 p.m. eastern standard time on March 23, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

For permits 1290, 1291, 1292: Protected Resources Division, F/NWO3, 525 NE Oregon Street, Suite 500, Portland, OR 97232-2737 (ph: 503-230-5400, fax: 503-230-5435).

Documents may also be reviewed by appointment in the Office of Protected Resources, F/PR3, NMFS, 1315 East-West Highway, Silver Spring, MD 20910-3226 (301-713-1401).

FOR FURTHER INFORMATION CONTACT: For permits 1290, 1291, 1292: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Sockeye salmon (Oncorhynchus nerka): endangered Snake River (SnR).

Chinook salmon (O. tshawytscha): endangered, naturally produced and artificially propagated, upper Columbia River (UCR) spring; threatened, naturally produced and artificially propagated, SnR spring/summer; threatened SnR fall; threatened lower Columbia River (LCR); threatened upper Willamette River (UWR).

Chum salmon (O. keta): threatened Columbia River.

Steelhead (O. mykiss): endangered, naturally produced and artificially propagated, UCR; threatened SnR; threatened middle Columbia River (MCR); threatened LCR; threatened UWR.

New Applications Received

The Fish Ecology Division of the Northwest Fisheries Science Center, NMFS requests a 5-year permit (1290) for annual takes of 11 of the 12 ESA-listed anadromous fish species identified in this notice (all ESU’s except endangered SnR sockeye salmon) associated with research to be conducted in the Columbia River estuary. The purpose of the research is to determine the prevalence and intensity of pathogens in juvenile salmonids. The research will benefit ESA-listed salmonids by contributing information on the extent to which diseases affect the growth and survival of juvenile salmonids in the estuarine and early ocean environments. This proposed research project is intended to complement the pathogen research that is being conducted by the Environmental Conservation Division, NWFSC, NMFS under scientific research permit 1140 (see 63 FR 18891, April 16, 1998). ESA-listed juvenile fish are proposed to be captured, handled, and released or taken lethally. ESA-listed juvenile fish indirect mortalities are also requested. ESA-listed juvenile fish indirect mortalities are proposed to be retained for research purposes or returned to the water.

The Columbia River Research Laboratory, USGS requests a 5-year permit (1291) for annual takes of SnR sockeye salmon, SnR spring/summer chinook salmon, SnR fall chinook salmon, UCR spring chinook salmon, SnR steelhead, UCR steelhead, and MCR steelhead associated with scientific research at John Day, The Dalles, and Bonneville Dams on the lower Columbia River in the Pacific Northwest. The purpose of the research is to monitor juvenile fish movement, distribution, behavior, and survival from John Day Dam downstream past Bonneville Dam using radiotelemetry technology. The research will benefit ESA-listed fish species by providing information on spill effectiveness, forebay residence times, and guidance efficiency under various flow regimes that will allow Federal resource managers to make adjustments to bypass/collection structures to optimize downriver migrant survival at the hydropower projects. The proposed research is intended to complement the research that is being conducted by USGS under scientific research permit 1130 (see 63 FR 9505, February 25, 1998). ESA-listed juvenile fish are proposed to be obtained from Smolt Monitoring Program (SMP) personnel at Bonneville and/or John Day Dams, handled, and released or implanted with radio transmitters, transported, held for as long as 24 hours, released, and tracked electronically. SMP personnel are authorized to collect ESA-listed juvenile fish under a separate take authorization. ESA-listed juvenile fish indirect mortalities associated with the research are also requested.

The Pacific Northwest Research Station of USFS requests a 2-year permit (1292) for annual takes of UCR spring chinook salmon, UCR steelhead, and MCR steelhead associated with research to be conducted in the Yakima River subbasin, the Wenatchee River subbasin, the Entiat River subbsasin, and the Methow River subbasin in Washington. The purpose of the research is to determine the extent and distribution of hybridization between westslope cutthroat trout, rainbow trout, and anadromous steelhead for selected populations in the MCR and UCR Basins. The research will benefit ESA-listed species by providing information on westslope cutthroat trout and rainbow trout/steelhead interactions and could provide insight into possible genetic introgression of introduced rainbow trout stocks in the areas of native rainbow trout/steelhead distribution. USFS also proposes to analyze phenotypic characteristics that may be used by biologists in the future to more definitively distinguish cutthroat trout, rainbow trout/steelhead, and hybrid forms in the field. ESA-listed juvenile fish are proposed to be captured by the use of angling with flies that have barbless hooks. After being captured, the juvenile fish are proposed to be released immediately (in the case of non-target species) or examined for biological information, sampled non-lethally for caudal fin tissue, and released. ESA-listed juvenile fish indirect mortalities associated with the research are also requested.

Dated: February 13, 2001.
Phil Williams,
Acting Chief, Endangered Species Division, Office of Protected Resources, National Marine Fisheries Service.

[FR Doc. 01-4169 Filed 2-20-01; 8:45 am]

BILLING CODE 3510-22-S